DEPARTMENT OF HOMELAND SECURITY

Coast Guard

33 CFR Part 100

[Docket No. USCG-2012-0156]

RIN 1625—AA08

Special Local Regulations for Marine Events; Potomac River, National Harbor Access Channel, MD

AGENCY: Coast Guard, DHS.

ACTION: Proposed rule; withdrawal.

SUMMARY: The Coast Guard is withdrawing its proposed rule concerning amendments to the regattas and marine parades regulations. The rulemaking was initiated to establish special local regulations during the swim segment of the “Ironman 70.3 National Harbor” triathlon, a marine event to be held on the waters of the Potomac River in Prince George's County, Maryland on August 5, 2012. The Coast Guard was notified on May 22, 2012 that the event had been cancelled.

DATES: The proposed rule published April 6, 2012, at 77 FR 20750, is withdrawn as of July 19, 2012.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0156 in the “Keyword” box, and then clicking “Search.”

FOR FURTHER INFORMATION CONTACT: If you have questions about this notice, call or email Mr. Ronald Houck, Waterways Management Division, Sector Baltimore, MD, U.S. Coast Guard; telephone 410-576-2674, email Ronald.L.Houck@uscg.mil. If you have questions on viewing material in the docket, call Renee V. Wright, Program Manager, Docket Operations, telephone 202-366-9826.

SUPPLEMENTARY INFORMATION:

Background

On April 6, 2012, we published a notice of proposed rulemaking entitled “Special Local Regulations for Marine Events; Potomac River, National Harbor Access Channel, MD” in the Federal Register (77 FR 20750). The rulemaking concerned the Coast Guard's proposal to establish temporary special local regulations on specified waters of the Potomac River and National Harbor Access Channel, in Prince George's County, MD, effective from 5 a.m. until 11 a.m. on August 5, 2012. The regulated area included all waters of the Potomac River, National Harbor Access Channel, within an area from the shoreline and then west to a line connecting the following positions: from position latitude 38°47′28″ N, longitude 077°01′20″ W; thence southerly to position latitude 38°46′49″ N, longitude 077°01′28″ W. The regulations were needed to temporarily restrict vessel traffic during the event to provide for the safety of participants, spectators and other transiting vessels.

Withdrawal

The Coast Guard is withdrawing this rulemaking because the event has been cancelled.

Authority

We issue this notice of withdrawal under the authority of 33 U.S.C. 1233.

Dated: June 18, 2012.
Mark P. O'Malley,
Captain, U.S. Coast Guard, Captain of the Port Baltimore.

[FR Doc. 2012-17578 Filed 7-18-12; 8:45 am]

BILLING CODE 9110-04-P